ENVIRONMENTAL PROTECTION AGENCY

[FRL-7964-5]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet in September 2005. This is an open meeting. The meeting will include updates on workgroup activities, a discussion of the recommendations made by the National Academy of Sciences regarding mobile source air pollution control, and presentations about activities being conducted by EPA's Office of Transportation and Air Quality. The preliminary agenda for the meeting, as well as the minutes from the previous (March 2005) meeting will be posted on the Subcommittee's Web site: http://www.epa.gov/air/caaac/mobile_sources.html. MSTRS listserver subscribers will receive notification when the agenda is available on the Subcommittee Web site. To subscribe to the MSTRS listserver, go to https://lists.epa.gov/cgi-bin/lyris.pl?enter=mstrs. The site contains instructions and prompts for subscribing to the listserver service.

DATES: Tuesday, September 13, 2005 from 9 a.m. to 5 p.m. Registration begins at 8:30 a.m.

ADDRESSES: The meeting will be held at the Holiday Inn and Suites, 625 First Street, Alexandria, VA 22314, (703) 548-6300. Shuttle buses are available between Washington Reagan National Airport and the Reagan National Airport Metro Station and the hotel.

FOR FURTHER INFORMATION CONTACT: For technical information: Dr. L. Joseph Bachman, Designated Federal Officer, Transportation and Regional Programs Division, Mailcode 6406J, U.S. EPA, 1200 Pennsylvania Ave. NW., Washington, DC 20460; Ph: (202) 343-9373; e-mail, bachman.joseph@epa.gov.

For logistical and administrative information: Ms. Cassandra Wallace, FACA Management Officer, U.S. EPA, Transportation and Regional Programs Division, Mailcode 6406J, U.S. EPA, 1200 Pennsylvania Ave. NW., Washington, DC 20460; (202) 343-9403.

Background on the work of the Subcommittee is available at http://transaq.ce.gatech.edu/epatac/, and more current information is found at: http://www.epa.gov/air/caaac/mobile_sources.html.

Individuals or organizations wishing to provide comments to the Subcommittee should submit them to Dr. Bachman at the address above by September 6, 2005. The Subcommittee expects that public statements presented at its meetings will not be repetitive of previously submitted oral or written statements.

SUPPLEMENTARY INFORMATION: During the meeting, the Subcommittee may also hear progress reports from some of its workgroups as well as updates and announcements on activities of general interest to attendees.

Dated: August 26, 2005.
Karl J. Simon,
Acting Director, Office of Transportation and Air Quality.

[FR Doc. 05-17433 Filed 8-31-05; 8:45 am]

BILLING CODE 6560-50-P